ENVIRONMENTAL PROTECTION AGENCY

[FRL OP-OFA-063]

Environmental Impact Statements; Notice of Availability

Responsible Agency: Office of Federal Activities, General Information 202-564-5632 or https://www.epa.gov/nepa.

Weekly receipt of Environmental Impact Statements (EIS)

Filed March 20, 2023 10 a.m. EST Through March 27, 2023 10 a.m. EST Pursuant to 40 CFR 1506.9.

Notice

Section 309(a) of the Clean Air Act requires that EPA make public its comments on EISs issued by other Federal agencies. EPA's comment letters on EISs are available at: https://cdxapps.epa.gov/cdx-enepa-II/public/action/eis/search.

EIS No. 20230042, Final, USFWS, CA, Tijuana Estuary Tidal Restoration Program II Phase I, Review Period Ends: 05/01/2023, Contact: Victoria Touchstone 760-431-9440 x273.

EIS No. 20230043, Final, USAF, WY, Sentinel (GSBD) Deployment and Minuteman III Decommissioning and Disposal, Review Period Ends: 05/01/2023, Contact: Lt Col Alysia Harvey 307-773-3400.

Dated: March 27, 2023.
Cindy S. Barger,
Director, NEPA Compliance Division, Office of Federal Activities.

[FR Doc. 2023-06683 Filed 3-30-23; 8:45 am]

BILLING CODE 6560-50-P